DEPARTMENT OF THE TREASURY

Alcohol and Tobacco Tax and Trade Bureau

27 CFR Parts 7 and 25

[Notice No. 10; Ref: TTB Notice No. 4]

RIN 1513-AA11

Flavored Malt Beverages and Related Proposals (2001R-136P); Comment Period Extension

AGENCY: Alcohol and Tobacco Tax and Trade Bureau (TTB), Treasury.

ACTION: Notice of proposed rulemaking; extension of comment period.

SUMMARY: In response to an industry request, TTB extends the comment period for Notice No. 4, Flavored Malt Beverages and Related Proposals, a notice of proposed rulemaking published in the Federal Register on March 24, 2003, for an additional 120 days.

DATES: Written comments must be received on or before October 21, 2003.

ADDRESSES: You may send comments to any of the following addresses—

• Chief, Regulations and Procedures Division, Alcohol and Tobacco Tax and Trade Bureau, P.O. Box 50221, Washington, DC 20091-0221 (Attn: TTB Notice No. 4);

• 202-927-8525 (Facsimile);

• nprm@ttb.treas.gov (E-mail);

• http://www.ttb.gov (Online-A comment form is available with Notice No. 4).

You may view copies of the proposed regulations, the notice of proposed rulemaking, the request for extension, and any comments received on Notice No. 4 by appointment at the ATF Reference Library, Room 6480, 650 Massachusetts Avenue, NW., Washington, DC 20226 (telephone 202-927-7890), or online at http://www.ttb.gov, under Notice No. 4.

FOR FURTHER INFORMATION CONTACT: Charles N. Bacon, Program Manager, Regulations and Procedures Division, 10 Causeway Street, Room 701, Boston, MA 02222; telephone 617-557-1323; e-mail Charles.Bacon@ttb.treas.gov.

SUPPLEMENTARY INFORMATION:

Background

On March 24, 2003, the Alcohol and Tobacco Tax and Trade Bureau (TTB) published Notice No. 4, Flavored Malt Beverages and Related Proposals, in the Federal Register (68 FR 14292). In this notice of proposed rulemaking, we propose to amend our beer and malt beverage production, labeling, advertising, and formula requirements. The comment period for TTB Notice No. 4 is scheduled to close on June 23, 2003.

Before the close of the comment period, E. & J. Gallo Winery (“Gallo”) submitted a request to TTB to extend the comment period for an additional 120 days beyond the June 23, 2003, closing date. In their request, Gallo notes that Notice No. 4 seeks comments on how the proposed alcohol source standard for malt beverages would affect taste, stability, and other characteristics of flavored malt beverages. They further note that TTB requests data, facts, or studies that support public comments on these topics.

Gallo states they require additional time to substantiate their comments with supporting data. Specifically, Gallo states they need additional time to age reformulated products under normal conditions to determine the impact of the proposed changes to the malt beverage alcohol source standards on their products.

We believe that additional time will assist Gallo and other producers of flavored malt beverages in developing new or reformulated products and will provide them with sufficient time to study the effects on taste, stability, and other characteristics that might result from a reformulated product. Therefore, TTB extends the comment period for Notice No. 4 for the additional 120 days that Gallo requests. The comment period will now close on October 21, 2003.

Drafting Information

Charles N. Bacon of the Regulations and Procedures Division, Alcohol and Tobacco Tax and Trade Bureau, drafted this notice.

List of Subjects

27 CFR Part 7

Advertising, Beer, Customs duties and inspection, Imports, Labeling, Reporting and recordkeeping requirements, Trade practices.

27 CFR Part 25

Beer, Claims, Electronic fund transfers, Excise taxes, Exports, Labeling, Liquors, Packaging and containers, Reporting and recordkeeping requirements, Research, Surety bonds.

Authority and Issuance

This notice is issued under the authority in 27 U.S.C. 205.

Signed: May 22, 2003.
Arthur J. Libertucci,
Administrator.

[FR Doc. 03-13670 Filed 5-30-03; 8:45 am]

BILLING CODE 4810-31-P